INTERNATIONAL TRADE COMMISSION

[Investigation No. 332-480]

Certain Textile Articles: Travel Goods of Textile Materials

AGENCY: International Trade Commission.

ACTION: Institution of investigation and request for public comments.

DATES: Effective Date: November 16, 2006.

SUMMARY: Following receipt on October 25, 2006 of a request from the House Committee on Ways and Means, the Commission instituted investigation No. 332-480, Certain Textile Articles: Travel Goods of Textile Materials, under section 332(g) of the Tariff Act of 1930 (19 U.S.C. 1332(g)).

FOR FURTHER INFORMATION CONTACT: Kimberlie Freund, Co-Project Leader, Office of Industries (202-708-5402; kimberlie.freund@usitc.gov) or Heidi Colby-Oizumi, Co-Project Leader, Office of Industries (202-205-3391; heidi.colby@usitc.gov). For information on legal aspects, contact William Gearhart of the Office of the General Counsel (202-205-3091; william.gearhart@usitc.gov). The media should contact Margaret O'Laughlin, Office of External Relations (202-205-1819; margaret.olaughlin@usitc.gov).

Background: In its letter, the Committee on Ways and Means, U.S. House of Representatives asked the U.S. International Trade Commission to conduct an investigation under section 332(g) of the Tariff Act of 1930 (19 U.S.C. 1332(g)) and provide a report that contains, to the extent possible, data for 2005 and 2006 on the level of U.S. production and shipments of certain travel goods with an outer surface of textile materials and the textile materials used to make such goods. The Committee also asked the Commission to define the products that it is covering in the report. The Committee asked the Commission to provide its report no later than 12 months following receipt of the letter (by October 25, 2007).

In its letter the Committee also requested that the Commission provide similar data on U.S. production and shipments of certain high-performance outerwear pants and jackets and the fabrics used to make such goods, and that the Commission submit that report no later than 9 months following receipt of the letter (by July 25, 2007). The Commission has instituted investigation No. 332-479, Certain Textile Articles: Performance Outerwear, for that purpose, the details of which are provided in a separate notice.

Written Submissions: No public hearing is planned. However, interested parties are invited to submit written statements concerning the matters to be addressed by the Commission in its report on this investigation. Submissions should be addressed to the Secretary, United States International Trade Commission, 500 E Street SW., Washington, DC 20436. To be assured of consideration by the Commission, written statements should be submitted to the Commission at the earliest practical date but no later than 5:15 p.m. on June 30, 2007. All written submissions must conform with the provisions of section 201.8 of the Commission's Rules of Practice and Procedure (19 C.F.R. 201.8). Section 201.8 requires that a signed original (or copy so designated) and fourteen (14) copies of each document be filed. In the event that confidential treatment of the document is requested, at least four (4) additional copies must be filed, in which the confidential business information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Committee has indicated that it intends to make the Commission's report available to the public in its entirety, and has asked that the Commission not include any confidential business information in the report it sends to the Committee. Any confidential business information received by the Commission in this investigation and used in preparing this report will not be published in a manner that would reveal the operations of the firm supplying the information.

General information concerning the Commission may also be obtained at http://www.usitc.gov. The public record for this investigation may be viewed on the Commission's electronic docket (EDIS) http://www.usitc.gov/secretary/edis.htm. Hearing impaired individuals may obtain information on this matter by contacting the Commission's TDD terminal on 202-205-1810. Persons with mobility impairments who will need special assistance in gaining access to the Commission should contact the Office of the Secretary at 202-205-2000.

By order of the Commission.
Issued: November 16, 2006.
Marilyn R. Abbott,
Secretary to the Commission.

[FR Doc. E6-19765 Filed 11-21-06; 8:45 am]

BILLING CODE 7020-02-P